DEPARTMENT OF JUSTICE

Antitrust Division

Notice Pursuant to the National Cooperative Research and Production Act of 1993—Interactive Advertising Bureau

Notice is hereby given that, on October 6, 2006, pursuant to Section 6(a) of the National Cooperative Research and Production Act of 1993, 15 U.S.C. 4301 et seq. (“the Act”), Interactive Advertising Bureau (“IAB”) has filed written notifications simultaneously with the Attorney General and the Federal Trade Commission disclosing additions or changes to its standards development activities. The notifications were filed for the purpose of extending the Act's provisions limiting the recovery of antitrust plaintiffs to actual damages under specified circumstances. Specifically, IAB is currently developing standards for Rich Internet Application Ad Measurement Guidelines and Click Measurement Guidelines.

On September 17, 2004, IAB filed its original notification pursuant to Section 6(a) of the Act. The Department of Justice published a notice in the Federal Register pursuant to Section 6(b) of the Act on October 21, 2004 (69 FR 61868).

The last notification was filed with the Department on June 1, 2006. A notice was published in the Federal Register pursuant to Section 6(b) of the Act on June 28, 2006 (71 FR 36829).

Patricia A. Brink,
Deputy Director of Operations, Antitrust Division.

[FR Doc. 06-8947 Filed 10-27-06; 8:45 am]

BILLING CODE 4410-11-M